SMALL BUSINESS ADMINISTRATION

[Declaration of Disaster #3233]

State of New York (And Contiguous Counties in New Jersey & Connecticut)

Westchester County and the contiguous Counties of Bronx, Orange, Putnam, and Rockland in New York, Bergen County, New Jersey and Fairfield County, Connecticut constitute a disaster area as a result of damages caused by a fire that occurred on December 29, 1999 in the Village of Ossining. Applications for loans for physical damage as a result of this disaster may be filed until the close of business on March 20, 2000 and for economic injury until the close of business on Oct. 19, 2000 at the address listed below or other locally announced locations: U.S. Small Business Administration, Disaster Area 1 Office, 360 Rainbow Boulevard South, 3rd Floor, Niagara Falls, NY 14303.

The interest rates are:

| Percent
For Physical Damage:
HOMEOWNERS WITH CREDIT AVAILABLE ELSEWHERE | 7.500
HOMEOWNERS WITHOUT CREDIT AVAILABLE ELSEWHERE | 3.750
BUSINESSES WITH CREDIT AVAILABLE ELSEWHERE | 8.000
BUSINESSES AND NON-PROFIT ORGANIZATIONS WITHOUT CREDIT AVAILABLE ELSEWHERE | 4.000
OTHERS (INCLUDING NON-PROFIT ORGANIZATIONS) WITH CREDIT AVAILABLE ELSEWHERE | 6.750
For Economic Injury:
BUSINESSES AND SMALL AGRICULTURAL COOPERATIVES WITHOUT CREDIT AVAILABLE ELSEWHERE | 4.000

The numbers assigned for physical damages are 323305 for New York, 323405 for New Jersey, and 323505 for Connecticut. For economic injury the numbers are 9G5100 for New York, 9G5200 for New Jersey, and 9G5300 for Connecticut.

(Catalog of Federal Domestic Assistance Program Nos. 59002 and 59008.)
Dated: January 19, 2000.
Aida Alvarez,
Administrator.

[FR Doc. 00-1984 Filed 1-26-00; 8:45 am]

BILLING CODE 8025-01-U